INTERNATIONAL TRADE COMMISSION

[Investigation No. 337-TA-984]

Certain Computing or Graphics Systems, Components Thereof, and Vehicles Containing Same; Notice of Termination of the Investigation

AGENCY: U.S. International Trade Commission.

ACTION: Notice.

SUMMARY: Notice is hereby given that the U.S. International Trade Commission has determined not to review the presiding administrative law judge's (“ALJ”) initial determinations (“IDs”) (Order Nos. 57-59), terminating the above-captioned investigation as to the remaining respondents Fujitsu Ten Limited of Hyogo-ken, Japan and Fujitsu Ten Corp. of America, Inc. of Novi, Michigan (collectively, “Fujitsu Ten”); Renesas Electronics Corporation of Tokyo, Japan and Renesas Electronics America, Inc. of Santa Clara, California (collectively, “Renesas”); and Honda Motor Co., Ltd. of Tokyo, Japan; Honda North America, Inc., American Honda Motor Co., Inc., and Honda R&D Americas, Inc., all of Torrance, California; Honda Engineering North America, Inc. and Honda of America Mfg., Inc., both of Marysville, Ohio; Honda Manufacturing of Alabama, LLC of Lincoln, Alabama; and Honda Manufacturing of Indiana, LLC of Greensburg, Indiana (collectively, the “Honda respondents”) based on patent license agreements. The Commission has also determined to terminate the investigation.

FOR FURTHER INFORMATION CONTACT: Clint Gerdine, Office of the General Counsel, U.S. International Trade Commission, 500 E Street SW., Washington, DC 20436, telephone (202) 708-2310. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on February 3, 2016, based on a complaint filed by Advanced Silicon Technologies LLC of Portsmouth, New Hampshire. 81 FR 5782-84. The complaint alleged violations of section 337 of the Tariff Act of 1930, as amended, 19 U.S.C. 1337, by reason of infringement of certain claims of U.S. Patent Nos. 6,339,428 (“the '428 patent”); 6,546,439 (“the '439 patent”); 6,630,935 (“the '935 patent”); and 8,933,945 (“the '945 patent”). The complaint further alleged that a domestic industry exists. The Commission's Notice of Investigation named several respondents including Fujitsu Ten, Renesas, and the Honda respondents. The Office of Unfair Import Investigations was also named as a party to the investigation. Only Fujitsu, Renesas, and the Honda respondents remain in the investigation.

On July 12, 2016, the Commission authorized judicial enforcement of a subpoena duces tecum and ad testificandum issued by the ALJ to non-party NXP Semiconductors USA, Inc. of Austin, Texas and authorized its Office of the General Counsel to seek judicial enforcement of the subpoena. Subsequently, on September 14, 2016, the complainant withdrew its request for judicial enforcement of the subpoena.

On April 14, 2016, the Commission issued notice of its determination not to review the ALJ's ID (Order No. 16) terminating the investigation as to claims 8-9 and 16-17 of the '428 patent; claim 11 of the '439 patent; and claim 2 of the '945 patent. On July 20, 2016, the Commission issued notice of its determination not to review the ALJ's ID (Order No. 41) terminating the investigation as to: (1) Claims 7 and 14 of the '439 patent; (2) claim 6 of the '935 patent; and (3) claim 21 of the '945 patent as to all respondents; and (4) claims 8 and 16 of the '439 patent only as to Renesas. On August 9, 2016, the Commission issued notice of its determination not to review the ALJ's ID (Order No. 45) terminating the investigation as to claims 25-29 of the '428 patent with respect to all respondents.

On June 1, 2016, the Commission issued notice of its determination not to review the ALJ's ID (Order No. 33) terminating the investigation as to respondent NVIDIA Corporation of Santa Clara, California based on a settlement agreement. On August 18, 2016, the Commission issued notice of its determination not to review the ALJ's ID (Order No. 49) terminating the investigation as to respondent Texas Instruments Inc. of Dallas, Texas based on a settlement agreement. On October 13, 2016, the Commission issued notice of its determination not to review the ALJ's IDs (Order Nos. 53-55) terminating the investigation as to the following respondents based on withdrawal of allegations in the complaint as to these respondents: Bayerische Motoren Werke AG of Munich, Germany; BMW of North America, LLC of Woodcliff Lake, New Jersey; and BMW Manufacturing Co., LLC of Greer, South Carolina; Harman International Industries Inc. of Stamford, Connecticut; Harman Becker Automotive Systems, Inc. of Farmington Hills, Michigan; and Harman Becker Automotive Systems GmbH of Karlsbad, Germany; and Toyota Motor Corporation of Aichi-ken, Japan; Toyota Motor North America, Inc. of New York City, New York; Toyota Motor Sales, U.S.A., Inc. of Torrance, California; Toyota Motor Engineering & Manufacturing North America, Inc. of Erlanger, Kentucky; Toyota Motor Manufacturing, Indiana, Inc. of Princeton, Indiana; Toyota Motor Manufacturing, Kentucky, Inc. of Georgetown, Kentucky; and Toyota Motor Manufacturing, Mississippi, Inc. of Blue Springs, Mississippi. On October 19, 2016, the Commission issued notice of its determination not to review the ALJ's ID (Order No. 56) terminating the investigation as to Volkswagen AG of Wolfsburg, Germany; Volkswagen Group of America, Inc. and Audi of America, LLC, both of Herndon, Virginia; Volkswagen Group of America Chattanooga Operations, LLC of Chattanooga, Tennessee; and Audi AG of Ingolstadt, Germany based on a settlement agreement.

On August 24, 2016, the complainant and Fujitsu Ten jointly moved to terminate the investigation as to Fujitsu Ten based on a patent license agreement. On August 25, 2016, the complainant and Renesas jointly moved to terminate the investigation as to Renesas based on a patent license agreement. On the same date, the complainant and the Honda respondents jointly moved to terminate the investigation as to the Honda respondents based on a patent license agreement. OUII filed responses supporting each motion and no other responses were received.

On October 24, 2016, the ALJ issued the subject IDs (Order Nos. 57-59) granting the joint motions for termination of the investigation as to Fujitsu Ten, Renesas, and the Honda respondents, and finding that the motions satisfy Commission Rules 210.21(a)(2), (b)(1) (19 CFR 210.21(a)(2), (b)(1)) and that each termination is in the public interest. No petitions for review were filed.

The Commission has determined not to review the subject IDs and has terminated the investigation.

The authority for the Commission's determination is contained in section 337 of the Tariff Act of 1930, as amended (19 U.S.C. 1337), and in part 210 of the Commission's Rules of Practice and Procedure (19 CFR part 210).

By order of the Commission.
Issued: November 21, 2016.
Lisa R. Barton,
Secretary to the Commission.

[FR Doc. 2016-28358 Filed 11-23-16; 8:45 am]

BILLING CODE 7020-02-P